ENVIRONMENTAL PROTECTION AGENCY

[EPA-HQ-OPPT-2015-0502; FRL-9933-34]

Certain New Chemicals; Receipt and Status Information for July 2015

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from July 1, 2015 to July 30, 2015.

DATES: Comments identified by the specific PMN number or TME number, must be received on or before October 16, 2015.

ADDRESSES: Submit your comments, identified by docket identification (ID) number EPA-HQ-OPPT-2015-0502, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD (7407M), Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from July 1, 2015 to July 30, 2015, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

For the PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity. As used in the table, (S) is used to indicate that the information provided in the table is the specific information provided by the submitter, and (G) is used to indicate that the information provided in the table is generic information because the specific information provided by the submitter was claimed as CBI.

Table 1—Status of the 85 PMNs Received From July 1 to July 30, 2015
Case No. | Received date | Projected notice end date | Manufacturer importer | Chemical use | Chemical identity
P-15-0564 | 7/1/2015 | 9/29/2015 | CBI | (G) Polymer intermediate used in extrusion and moulding | (G) Graft copolymer of polyolefin and polyamide.
P-15-0565 | 7/1/2015 | 9/29/2015 | CBI | (G) Chemical intermediate | (G) Polymeric products of reactions of epoxy with organic acid and acrylic monomers, partially neutralized with dimethyl ethanolamine.
P-15-0566 | 7/1/2015 | 9/29/2015 | Allnex USA, Inc | (S) Thickener for waterborne industrial coatings | (G) Alkanedioic acid, polymer with substituted carbomonocycles, alkyl substituted alkanediol, substituted alkanoic acid, and substituted alkanediamine, substituted alkanamine-blocked, compds. with alkylamine.
P-15-0567 | 7/1/2015 | 9/29/2015 | CBI | (G) UV cured coatings and inks | (G) Urethane acrylate.
P-15-0568 | 7/1/2015 | 9/29/2015 | DIC International (USA) LLC | (G) Adhesives | (G) Alicyclic polycarboxylic acid, polymer with alkyl methacrylate, alkyldiol, alkyldioic acid, polyalkyleneoxide, alkoxy methacrylate, aromatic heterocyclic diketone, aromatic diisocyanate, heterocyclic ketone and dialkyleneglycol.
P-15-0569 | 7/1/2015 | 9/29/2015 | OMG Americas, Inc | (S) Wetting and dispersion additive for paint and coating industry | (G) Polyethylene glycol-,alkyl, amine-functionalized polyurethane.
P-15-0569 | 7/1/2015 | 9/29/2015 | OMG Americas, Inc | (S) Wetting and Dispersion additive for pigment manufacturers | (G) Polyethylene glycol-,alkyl, amine-functionalized polyurethane.
P-15-0570 | 7/1/2015 | 9/29/2015 | OMG Americas, Inc | (S) Wetting and Dispersion additive for pigment manufacturers | (G) Polyethylene glycol-, fatty acid-, alkyl amine-functionalised polyurethane.
P-15-0571 | 7/2/2015 | 9/30/2015 | CBI | (S) Raw material used in the manufacture of lubricants | (G) Potassium salt of organic acid.
P-15-0572 | 7/2/2015 | 9/30/2015 | CBI | (S) Raw material used in the manufacture of lubricants | (G) Mixed salts of organic acid.
P-15-0573 | 7/6/2015 | 10/4/2015 | XF Technologies | (S) Chemical intermediate for xF production | (S) 2-furancarboxyaldehyde, 5-(chloromethyl)-
P-15-0574 | 7/7/2015 | 10/5/2015 | CBI | (G) Separation membrane | (G) 1,3-Isobenzofurandione, 5,5′-[2,2,2-trifluoro-1-(trifluoromethyl) ethylidene]bis-, polymer with aromatic amines.
P-15-0575 | 7/7/2015 | 10/5/2015 | CBI | (G) Monomer for a polymer | (G) Substituted [1,1′-biphenyl].
P-15-0576 | 7/7/2015 | 10/5/2015 | CBI | (S) Additive/deflocculant for water-based decorative and industrial paints | (S) Modified acrylic polymer.
P-15-0580 | 7/7/2015 | 10/5/2015 | CBI | (G) Coating | (G) Cycloaliphatic epoxy.
P-15-0581 | 7/7/2015 | 10/5/2015 | CBI | (G) Oilfield chemical additive | (G) L-amino acid, homopolymer, carboxylate.
P-15-0582 | 7/8/2015 | 10/6/2015 | CBI | (G) Intermediate | (G) Doped Zirconium Oxide.
P-15-0583 | 7/8/2015 | 10/6/2015 | CBI | (G) Lubricant additive | (G) Butanedioic acid, alkyl amine, dimethylbutyl ester.
P-15-0584 | 7/8/2015 | 10/6/2015 | The Lewis Chemical Company | (S) Foaming agent in industrial or hard surface cleaners | (S) Amides, coco, n,n-bis(2-hydroxypropyl).
P-15-0585 | 7/9/2015 | 10/7/2015 | CBI | (S) Additive/deflocculant for water-based decorative and industrial paints | (S) Modified acrylic polymer.
P-15-0586 | 7/9/2015 | 10/7/2015 | Bostik, Inc. | (G) Adhesive | (G) Polyurethane.
P-15-0587 | 7/9/2015 | 10/7/2015 | Bostik, Inc. | (G) Adhesive | (G) Polyurethane polyol.
P-15-0588 | 7/10/2015 | 10/8/2015 | CBI | (G) Component of inkjet ink | (G) Alkenoic acid, polymer with substituted heteromonocycle, substituted carbomonocycle, 2-alkyl-2-hydroxyalkyl-1,3-alkanediol 1-alkylalkenyl carbomonocycle, alkali metal salt.
P-15-0589 | 7/10/2015 | 10/8/2015 | CBI | (G) Component of inkjet ink | (S) 2-Propenoic acid, polymer with 2-(chloromethyl)oxirane, ethenylbenzene, 2-ethyl-2-(hydroxymethyl)-1,3-propanediol and (1-methylethenyl)benzene, potassium sodium salt.
P-15-0590 | 7/10/2015 | 10/8/2015 | CBI | (G) Component in an electrodeposition coating | (G) 2-Propenoic acid, 2-methyl-, methyl ester, polymer with butyl 2-propenoate, 2-oxiranylmethyl 2-methyl-2-propenoate and 1,2-propanediol mono(2-methyl-2-propenoate), tert-Bu ethaneperoxoate-initiated, reaction products with dihydroxyalkyl sulfide, carboxylic acid salt.
P-15-0591 | 7/10/2015 | 10/8/2015 | CBI | (G) Component in an electrodeposition coating | (G) 2-Propenoic acid, 2-methyl-, methyl ester, polymer with butyl 2-propenoate, 2-oxiranylmethyl 2-methyl-2-propenoate and 1,2-propanediol mono(2-methyl-2-propenoate), tert-Bu ethaneperoxoate-initiated, reaction products with hydroxyalkyl amine, carboxylic acid salt.
P-15-0592 | 7/10/2015 | 10/8/2015 | CBI | (G) Component in an electrodeposition coating | (G) 2-Propenoic acid, 2-methyl-, methyl ester, polymer with butyl 2-propenoate, ethenylbenzene, 2-oxiranylmethyl 2-methyl-2-propenoate and 1,2-propanediol mono(2-methyl-2-propenoate), tert-Bu ethaneperoxoate-initiated, reaction products with dihydroxyalkyl sulfide, carboxylic acid salt.
P-15-0593 | 7/10/2015 | 10/8/2015 | CBI | (G) Component in an electrodeposition coating | (G) 2-Propenoic acid, 2-methyl-, methyl ester, polymer with butyl 2-propenoate, ethenylbenzene, 2-oxiranylmethyl 2-methyl-2-propenoate and 1,2-propanediol mono(2-methyl-2-propenoate), tert-Bu ethaneperoxoate-initiated, reaction products with hydroxyalkyl amine, carboxylic acid salt.
P-15-0594 | 7/10/2015 | 10/8/2015 | CBI | (G) Component in an electrodeposition coating | (G) 2-Propenoic acid, 2-methyl-, methyl ester, polymer with butyl 2-propenoate, 2-oxiranylmethyl 2-methyl-2-propenoate and 1,2-propanediol mono(2-methyl-2-propenoate), tert-Bu ethaneperoxoate-initiated, reaction products with dihydroxyalkyl sulfide, carboxylic acid salt.
P-15-0595 | 7/10/2015 | 10/8/2015 | CBI | (G) Component in an electrodeposition coating | (G) 2-Propenoic acid, 2-methyl-, methyl ester, polymer with butyl 2-propenoate, 2-oxiranylmethyl 2-methyl-2-propenoate and 1,2-propanediol mono(2-methyl-2-propenoate), tert-Bu ethaneperoxoate-initiated, reaction products with hydroxyalkyl amine, carboxylic acid salt.
P-15-0596 | 7/10/2015 | 10/8/2015 | CBI | (G) Intermediate | (G) Methyl alkaryl methyl hydrogen cyclosiloxanes.
P-15-0597 | 7/10/2015 | 10/8/2015 | CBI | (S) Dispersing agent for use in paints, pigments, and coatings | (G) Polyethylene glycol alkyl ether, sodium salt.
P-15-0598 | 7/13/2015 | 10/11/2015 | Allnex USA, Inc | (S) Automotive basecoat. | (G) Substituted alkanoic acid, polymer with substituted polypropylene, substituted carbomonocyle, dialkyl carbonate, alkanediol and substituted carbopolycycle, compd. with dialkylamino alkanol.
P-15-0599 | 7/13/2015 | 10/11/2015 | CBI | (G) Adhesive | (G) Hetero substituted alkyl acrylate polymer.
P-15-0600 | 7/14/2015 | 10/12/2015 | CBI | (G) Plastics additive | (G) Poly(hydroxyalkanoate).
P-15-0601 | 7/14/2015 | 10/12/2015 | CBI | (G) Fluid loss control additive | (G) Acrylic-humic acid-based polymer.
P-15-0602 | 7/14/2015 | 10/12/2015 | CBI | (G) Conductive material | (G) Copolymer of tetrafluoroethene and Perfluorosulfonylvinylether.
P-15-0603 | 7/14/2015 | 10/12/2015 | CBI | (G) Conductive material | (G) Copolymer of tetrafluoroethene and Perfluorosulfonylvinylether.
P-15-0605 | 7/14/2015 | 10/12/2015 | Sasol Chemicals (USA) LLC | (S) Chemical intermediate for pour point depressant production | (S) Alkenes, C18-22, mixed with polyethylene, oxidized, hydrolyzed, distn. residues, from C16-18 alcs. manuf.
P-15-0605 | 7/14/2015 | 10/12/2015 | Sasol Chemicals (USA) LLC | (S) Formulation of defoamers used in the production of paper | (S) Alkenes, C18-22, mixed with polyethylene, oxidized, hydrolyzed, distn. residues, from C16-18 alcs. manuf.
P-15-0606 | 7/14/2015 | 10/12/2015 | Sasol Chemicals (USA) LLC | (S) Chemical intermediate for pour point depressant production | (S) Alkenes, C18-22, mixed with polyethylene, oxidized, hydrolyzed, distn. residues, from C20-22 alcs. manuf.
P-15-0607 | 7/14/2015 | 10/12/2015 | CBI | (G) Initiator for polymerization | (G) 1,2,4,5,7,8-Hexoxonane, 3,6,9-trimethyl-,3,6,9-tris(alkyl) derivs.
P-15-0608 | 7/15/2015 | 10/13/2015 | CBI | (G) Tackifying component of hot melt adhesive and traffic marking formulations | (G) Modified rosin polyol ester.
P-15-0610 | 7/15/2015 | 10/13/2015 | H.B. Fuller Company | (G) Industrial Adhesive | (G) Aliphatic isocyanate with polyalkylene carbonate diol and 2-hea.
P-15-0611 | 7/15/2015 | 10/13/2015 | H.B. Fuller Company | (G) Industrial Adhesive | (G) Aliphatic isocyanate with polyalkylene carbonate diol and 4-hba.
P-15-0612 | 7/15/2015 | 10/13/2015 | BrandWatch Technologies | (S) Additive for brand protection and anti-counterfeiting inks and polymers | (S) Sulfur thulium ytterbium yttrium oxide.
P-15-0613 | 7/15/2015 | 10/13/2015 | BrandWatch Technologies | (S) Additive for brand protection and anti-counterfeiting inks and polymers | (S) Gadolinium sulfur ytterbium yttrium oxide, erbium- and thulium-doped.
P-15-0614 | 7/15/2015 | 10/13/2015 | BrandWatch Technologies | (S) Additive for brand protection and anti-counterfeiting inks and polymers | (S) Neodymium sulfur yttrium oxide.
P-15-0615 | 7/15/2015 | 10/13/2015 | BrandWatch Technologies | (S) Additive for brand protection and anti-counterfeiting inks and polymers | (S) Erbium gadolinium neodymium sulfur ytterbium yttrium oxide.
P-15-0616 | 7/15/2015 | 10/13/2015 | BrandWatch Technologies | (S) Additive for brand protection and anti-counterfeiting inks and polymers | (S) Erbium gadolinium sulfur ytterbium yttrium oxide.
P-15-0617 | 7/15/2015 | 10/13/2015 | BrandWatch Technologies | (S) Additive for brand protection and anti-counterfeiting inks and polymers | (S) Erbium gadolinium ytterbium oxide.
P-15-0618 | 7/15/2015 | 10/13/2015 | BrandWatch Technologies | (S) Additive for brand protection and anti-counterfeiting inks and polymers | (S) Erbium gadolinium sulfur ytterbium oxide.
P-15-0619 | 7/16/2015 | 10/14/2015 | CBI | (S) Tackifier in traffic striping preform formulations | (G) Modified rosin polyol esters.
P-15-0620 | 7/17/2015 | 10/15/2015 | CBI | (G) Catalyst | (G) Doped zirconium oxide.
P-15-0621 | 7/17/2015 | 10/15/2015 | CBI | (G) Additive for plastics | (G) Aromatic polyester.
P-15-0623 | 7/17/2015 | 10/15/2015 | CBI | (G) Epoxy hardener | (G) Nutshell liquid, polymer with alkylenediamine and formaldehyde, reaction products with phenol, 4,4′-(1-methylethylidene)bis-, polymer with 2-(chloromethyl)oxirane and fatty acids, polymers with polyalkylenepolyamine.
P-15-0624 | 7/17/2015 | 10/15/2015 | CBI | (S) Wetting and dispersing additive in industrial and architectural coatings | (S) Modified urethane polymer.
P-15-0625 | 7/21/2015 | 10/19/2015 | CBI | (G) Construction material | (G) Naturally occurring minerals, reaction products with hetero substituted alkyl acrylate polymer.
P-15-0625 | 7/21/2015 | 10/19/2015 | CBI | (S) Construction fill | (G) Naturally occurring minerals, reaction products with hetero substituted alkyl acrylate polymer.
P-15-0626 | 7/21/2015 | 10/19/2015 | CBI | (G) Construction material | (G) Naturally occurring minerals, reaction products with hetero substituted alkyl acrylate polymer.
P-15-0627 | 7/21/2015 | 10/19/2015 | CBI | (G) Construction material | (G) Naturally occurring minerals, reaction products with hetero substituted alkyl acrylate polymer.
P-15-0628 | 7/21/2015 | 10/19/2015 | CBI | (G) Construction material | (G) Naturally occurring minerals, reaction products with hetero substituted alkyl acrylate polymer.
P-15-0630 | 7/22/2015 | 10/20/2015 | CBI | (S) Epoxy curing agent | (G) 2-Ethylhexanoic acid, compound with alkyamino cyclohexane.
P-15-0632 | 7/22/2015 | 10/20/2015 | CBI | (S) Salt for polymer | (G) Mixed amine salt.
P-15-0633 | 7/23/2015 | 10/21/2015 | Firmenich, Inc | (G) As part of a fragrance formula (dispersive use) | (S) 1(2H)-Naphthalenone,4-ethyloctahydro-8-methyl.
P-15-0634 | 7/23/2015 | 10/21/2015 | Firmenich, Inc. | (G) As part of a fragrance formula | (S) Reaction mass of (3E)-4-(2,6,6-trimethylcyclohex-1 or 2-en-1-yl)but-3-en-2-one and 4-(dodecylsulfanyl)-4-(2,6,6-trimethylcyclohex-1 or 2 -en-1-yl)butan-2-one.
P-15-0635 | 7/23/2015 | 10/21/2015 | CBI | (G) In electronics, adhesives, and coatings manufacture, or derivitized for these applications | (G) Polymer of an aromatic olefin and one or more substituted aromatic olefins.
P-15-0637 | 7/24/2015 | 10/22/2015 | Takasago | (S) Fragrance in household products | ((S) Cyclopropanemethanol, a,1-dimethyl-2-(1-phenylethyl)-.
P-15-0637 | 7/24/2015 | 10/22/2015 | Takasago | (S) Fragrance in a fine fragrance | (S) Cyclopropanemethanol, a,1-dimethyl-2-(1-phenylethyl)-.
P-15-0637 | 7/24/2015 | 10/22/2015 | Takasago | (S) Fragrance in consumer products | (S) Cyclopropanemethanol, a,1-dimethyl-2-(1-phenylethyl)-.
P-15-0638 | 7/24/2015 | 10/22/2015 | Cardolite Corporation | (G) 100% Solids Epoxy hardener for water borne epoxy coating formulations | (G) Cashew nutshell liquid polymer with epichlorhydrin, formaldehyde, phenol, amines and glycol.
P-15-0645 | 7/27/2015 | 10/25/2015 | CBI | (G) UV cured coatings and inks | (G) Urethane acrylate.
P-15-0646 | 7/27/2015 | 10/25/2015 | Gelest | (S) Research | (S) Silane, (3-chloropropyl)diethoxymethyl-.
P-15-0646 | 7/27/2015 | 10/25/2015 | Gelest | (S) Conversion to an aminofunctional organosilane at Gelest for export—subject of GLS226 | (S) Silane, (3-chloropropyl)diethoxymethyl-.
P-15-0647 | 7/27/2015 | 10/25/2015 | Gelest | (S) Research | (S) Propanamine, 3-(diethoxymethylsilyl)-N-[3-(diethoxymethylsilyl)propyl]-N-methyl-.
P-15-0647 | 7/27/2015 | 10/25/2015 | Gelest | (S) Specialty adhesion promoter—to be carried out in an Asian country | (S) Propanamine, 3-(diethoxymethylsilyl)-N-[3-(diethoxymethylsilyl)propyl]-N-methyl-.
P-15-0648 | 7/27/2015 | 10/25/2015 | CBI | (G) Raw material | (G) Alkylamino alcohol.
P-15-0649 | 7/28/2015 | 10/26/2015 | CBI | (G) Additive, open, non-dispersive use | (G) Polyether modified epoxy resin.
P-15-0651 | 7/28/2015 | 10/26/2015 | CBI | (G) Additive, open, non-dispersive use | (G) Siloxanes and silicones, di methyl, polyether modified.
P-15-0652 | 7/28/2015 | 10/26/2015 | CBI | (G) Polymer for coatings | (G) Amine salted polyurethane.
P-15-0653 | 7/28/2015 | 10/26/2015 | CBI | (G) Coating | (G) Cycloaliphatic epoxide.
P-15-0654 | 7/29/2015 | 10/27/2015 | CBI | (G) Coating | (G) Cycloaliphatic epoxide.
P-15-0655 | 7/29/2015 | 10/27/2015 | CBI | (S) Epoxy curing agent | (G) 2-Ethylhexanoic acid, compound with alkyamino cyclohexane.
P-15-0655 | 7/29/2015 | 10/27/2015 | CBI | (S) Epoxy curing agent | (G) 2-Ethylhexanoic acid, compound with cyclohexylamine.
P-15-0657 | 7/30/2015 | 10/28/2015 | CBI | (G) Intermediate | (G) Allyl triazine oligomer.

For the NOCs received by EPA during this period, Table 2 provides the following information (to the extent that such information is not claimed as CBI): The EPA case number assigned to the NOC; the date the NOC was received by EPA; the commencement date provided by the submitter in the NOC; and the chemical identity. As used in the table, (S) is used to indicate that the information provided in the table is the specific information provided by the submitter, and (G) is used to indicate that the information provided in the table is generic information because the specific information provided by the submitter was claimed as CBI.

Table 2—Status of the 23 NOCs Received From July 1, 2015 to July 10, 2015
Case No. | Received date | Commencement date | Chemical identity
P-07-0621 | 7/10/2015 | 6/28/2015 | (G) Butanedioic acid, 2,3-dihydroxy-, mixed diesters, (2r, 3r)-rel-.
P-09-0516 | 7/30/2015 | 7/23/2015 | (G) Fatty acids, c16-18 and c18-unsatd., polymer with alkyldioic acid, cycloalkylamine, aromatic diol, c18-unsatd. fatty acid dimers, epichlorohydrin, aromatic acid and triethylenetetramine.
P-12-0414 | 7/15/2015 | 7/9/2015 | (S) 2-Propenoic acid, (2-ethyl-2-methyl-1,3-dioxolan-4-yl)methyl ester.
P-13-0252 | 7/24/2015 | 7/9/2015 | (S) Mixture of 4,7-methano-1h-inden-5-ol, octahydro-2,4,5-trimethyl-.
P-13-0252 | 7/24/2015 | 7/9/2015 | (S) Mixture of 4,7-methano-1h-inden-5-ol, octahydro-3,4,5-trimethyl-.
P-13-0752 | 7/2/2015 | 7/1/2015 | (G) Substituted polyethylene glycol monomethy ether.
P-14-0669 | 7/6/2015 | 7/1/2015 | (G) Polyamine carboxyalkyl derivatives, sodium salts.
P-14-0804 | 7/10/2015 | 7/9/2015 | (S) Phosphoric acid, sodium titanium (4+) salt (3:1:2).
P-15-0189 | 7/16/2015 | 6/29/2015 | (G) Alkane carboxylic acid ester with alkanepolyol.
P-15-0192 | 7/7/2015 | 6/21/2015 | (G) Isocyanated alkyl trialkoxysilane, reaction products with epoxy modified cyclohexyl trialkoxysilane and mixed metal oxides.
P-15-0193 | 7/7/2015 | 6/21/2015 | (G) Isocyanated alkyl trialkoxysilane, reaction products with epoxy modified cyclohexyl trialkoxysilane and mixed metal oxides.
P-15-0201 | 7/7/2015 | 6/21/2015 | (G) Methacrylate alkyl trialkoxysilane, reaction products with mixed metal oxides.
P-15-0204 | 7/7/2015 | 6/21/2015 | (G) Isocyanated alkyl trialkoxysilane, reaction products with epoxy modified cyclohexyl trialkoxy silane and mixed metal oxides.
P-15-0253 | 7/7/2015 | 6/9/2015 | (G) Organometallic, reaction product with titanium salt, zirconium metallocene and silica.
P-15-0263 | 7/14/2015 | 6/22/2015 | (G) Ethylene vinyl acetate polymer.
P-15-0273 | 7/13/2015 | 7/8/2015 | (S) Glycolipids, sophorose-contg., candida bombicola-fermented, from d-glucose and mahua madhuca longifolia fats and glyceridic oils.
P-15-0281 | 7/13/2015 | 7/10/2015 | (G) Alkyl substituted alkanoic acid, polymer with substituted carbomonocycle, alkyl substituted alkenoate, alkanediol mono-alkyl substituted alkenoate and alkenoic acid, substituted alkyl ester, alkylperoxoate-initiated, compds. with alkylamino alkanol.
P-15-0328 | 7/17/2015 | 6/18/2015 | (G) Aluminum calcium oxide salt.
P-15-0330 | 7/30/2015 | 7/18/2015 | (G) Diphenylcyclic siloxane.
P-15-0332 | 7/10/2015 | 7/7/2015 | (G) Linear siloxane.
P-15-0337 | 7/27/2015 | 7/15/2015 | (G) Amino silane.
P-15-0338 | 7/22/2015 | 7/14/2015 | (S) Decanedioic acid, 1,10-diisotridecyl ester.
P-15-0370 | 7/7/2015 | 7/4/2015 | (G) Alcohols, polymers with dicarboxylic acid, alcohols, alkenedioic acid, dicarboxylic acids, alkanoic acid esters.

Authority: 15 U.S.C. 2601 et seq.

Dated: September 9, 2015.
Chi Tran, Acting,
Director, Information Management Division, Office of Pollution Prevention and Toxics.

[FR Doc. 2015-23297 Filed 9-15-15; 8:45 am]

BILLING CODE 6560-50-P